INTERNATIONAL TRADE COMMISSION

[Investigation No. 337-TA-1284]

Certain Electronic Devices Having Wireless Communication Capabilities and Components Thereof; Notice of a Commission Determination Not To Review an Initial Determination Terminating the Investigation as to Blu Products, Inc.; Termination of the Investigation

AGENCY: U.S. International Trade Commission.

ACTION: Notice.

SUMMARY: Notice is hereby given that the U.S. International Trade Commission (“Commission”) has determined not to review an initial determination (“ID”) (Order No. 23) of the presiding administrative law judge (“ALJ”), terminating the investigation as to respondent BLU Products, Inc. of Doral, Florida (“BLU”) based on a settlement agreement. Because BLU is the last remaining respondent, this investigation is terminated in its entirety.

FOR FURTHER INFORMATION CONTACT: Ronald A. Traud Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 2, 2021, based on a complaint filed on behalf of Bell Northern Research, LLC of Chicago, Illinois (“BNR”). 86 FR 60467 (Nov. 2, 2021). The complaint alleged a violation of section 337 of the Tariff Act of 1930, as amended, 19 U.S.C. 1337, based upon the importation into the United States, the sale for importation, and the sale within the United States after importation of certain electronic devices having wireless communication capabilities and components thereof by reason of infringement of certain claims of U.S. Patent Nos. 8,204,554; 7,319,889; RE 48,629; and 8,416,862. Id. at 60467-68. The complaint further alleged that an industry in the United States exists as required by section 337. Id. The Commission's notice of investigation named the following as respondents: BLU; TCL Electronics Holdings Limited of Hong Kong; TCT Mobile (US) Inc. of Irvine, California; TTE Technology, Inc. of Corona, California; HMD Global Oy of Espoo, Finland; HMD America, Inc. of Miami, Florida; Lenovo Group Ltd. of Beijing, China; Lenovo (United States), Inc. of Morrisville, North Carolina; Motorola Mobility LLC of Chicago, Illinois; OnePlus Technology Co. Ltd. of Shenzhen, China; BBK Electronics Corp. of Dongguan, China; and Sonim Technologies, Inc. of Austin, Texas. Id. The Office of Unfair Import Investigations (“OUII”) was named as a party in this investigation. Id.

On May 31, 2022, pursuant to Commission Rule 210.21(b) (19 CFR 210.21(b)), complainant BNR and respondent BLU filed a joint motion to terminate this investigation as to BLU based on a settlement agreement. On June 10, 2022, OUII filed a response supporting the motion.

On June 16, 2022, the ALJ issued Order No. 23, the subject ID, which granted the motion. The ID found that the motion complied with the Commission's Rules and that terminating the investigation as to BLU would not be contrary to the public interest. No petitions for review of the ID were filed.

The Commission has determined not to review the subject ID.

The investigation is hereby terminated as to BLU Products, Inc. of Doral, Florida. Because BLU is the last remaining respondent, this investigation is hereby terminated in its entirety.

The Commission vote for this determination took place on June 29, 2022.

The authority for the Commission's determination is contained in section 337 of the Tariff Act of 1930, as amended (19 U.S.C. 1337), and in Part 210 of the Commission's Rules of Practice and Procedure (19 CFR part 210).

By order of the Commission.
Issued: June 30, 2022.
Katherine Hiner,
Acting Secretary to the Commission.

[FR Doc. 2022-14369 Filed 7-5-22; 8:45 am]

BILLING CODE 7020-02-P